NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates & Times: October 6, 2005; 7:45 a.m.-6:30 p.m. (open 7:45-12:45, 1:45-5). October 7, 2005; 8 a.m.-3:30 p.m. (closed).

Place: California State University at Los Angeles, Los Angeles, CA.

Type of Meeting: Part open.

Contact Person: Dr. Thomas P. Rieker, Program Director, Materials Research Science and Engineering Centers, Division of Materials Research, Room 1065, National Science Foundation, 4201 Wilson Boulevard, Arlington, VA 22230, Telephone (703) 292-4914.

Purpose of Meeting: To provide advice and recommendations concerning progress of the Partnership for Research and Education in Materials.

Agenda: October 6, 2005—Open for Directors overview of the Partnership for Research and Education in Materials. October 6 & 7, 2005—Closed to review and evaluate progress of the Partnership for Research and Education in Materials.

Reason for Closing: The work being reviewed may include information of a proprietary or confidential nature, including technical information; financial data, such as salaries and personal information concerning individuals associated with the proposals. These matters are exempt under 5 U.S.C. 552b(c), (4) and (6) of the Government in the Sunshine Act.

Dated: September 20, 2005.
Susanne Bolton,
Committee Management Officer.

[FR Doc. 05-19082 Filed 9-23-05; 8:45am]

BILLING CODE 7555-07-M